ENVIRONMENTAL PROTECTION AGENCY

[FRL-9980-38-OW]

Notice of Open Meeting of the Environmental Financial Advisory Board (EFAB)

AGENCY: Environmental Protection Agency (EPA).

ACTION: Notice of open meeting.

SUMMARY: The EPA's Environmental Financial Advisory Board (EFAB) will hold a public meeting on August 21-22, 2018 in Chicago, Illinois. The EFAB is an EPA advisory committee chartered under the Federal Advisory Committee Act to provide advice and recommendations to EPA on creative approaches to funding environmental programs, projects, and activities.

The purpose of this meeting is to hear from informed speakers on environmental finance issues and EPA priorities; to discuss activities, progress, and preliminary recommendations with regards to current EFAB work projects; and to consider requests for assistance from EPA program offices. Environmental finance discussions and presentations are expected on, but not limited to, the following topics: alternative project delivery pre-development practices; pre-disaster resiliency investment and finance; water system regionalization financing strategies; water quality restoration in the Chesapeake Bay Watershed; Rural Alaska Waste Backhaul Service Program; and Water Infrastructure and Resiliency Finance Center activities. The meeting is open to the public; however, seating is limited and attendees must be processed through security. All members of the public who wish to attend the meeting must register, in advance, no later than Friday, August 3, 2018.

DATES: The full board meeting will be held Tuesday, August 21, 2018 from 8:30 a.m.-4:30 p.m. and Wednesday, August 22, 2018 from 9:00 a.m.-12:30 p.m.

ADDRESSES: U. S. Environmental Protection Agency (EPA), Region 5 Office, Lake Huron Conference Room, 12th Floor, 77 West Jackson Boulevard, Chicago, Illinois 60604.

FOR FURTHER INFORMATION CONTACT: For information on access or services for individuals with disabilities, or to request accommodations for a disability, please contact Alecia Crichlow at (202) 564-5188 or crichlow.alecia@epa.gov at least 14 days prior to the meeting to allow as much time as possible to process your request.

Dated: June 22, 2018.
Andrew Sawyers,
Director, Office of Wastewater Management, Office of Water.

[FR Doc. 2018-14682 Filed 7-6-18; 8:45 am]

BILLING CODE 6560-50-P